DEPARTMENT OF COMMERCE

Census Bureau

Proposed Information Collection; Comment Request; Annual Survey of Manufactures

AGENCY: U.S. Census Bureau.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 16, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Mendel D. Gayle, Census Bureau, 4600 Silver Hill Rd., Rm. 7K055, Washington, DC 20233, (301) 763-4587 or via the Internet at mendel.d.gayle@census.gov.

SUPPLEMENTARY INFORMATION:

I. Abstract

The Census Bureau has conducted the Annual Survey of Manufactures (ASM) since 1949 to provide key measures of manufacturing activity during intercensal periods. In census years ending in “2” and “7”, the ASM is mailed and collected as part of the Economic Census covering the Manufacturing Sector. This survey is an integral part of the Government's statistical program. The ASM furnishes up-to-date estimates of employment and payroll, hours and wages of production workers, value added by manufacture, cost of materials, value of shipments by product class, inventories, and expenditures for both plant and equipment and structures. The survey provides data for most of these items for each of the 5-digit and selected 6-digit industries as defined in the North American Industry Classification System (NAICS). It also provides geographic data by state at a more aggregated industry level.

The survey also provides valuable information to private companies, research organizations, and trade associations. Industry makes extensive use of the annual figures on product class shipments at the U.S. level in its market analysis, product planning, and investment planning. The ASM data are used to benchmark and reconcile monthly and quarterly data on manufacturing production and inventories. This ASM clearance request will be for the year 2008. There will be no changes to the information requested from respondents.

II. Method of Collection

The ASM statistics are based on a survey that includes both a mail and nonmail components. Previously, the mail portion of the survey was comprised of a probability sample of approximately 53,000 manufacturing establishments from a frame of approximately 225,000 establishments. These 225,000 establishments were all manufacturing establishments of multiunit companies (companies with operations at more than one location) and all single-location manufacturing companies that were mailed in the 2002 Census of Manufacturing. The nonmail component was comprised of the remaining small single-location companies; approximately 155,000 companies. No data has been collected from companies in the nonmail component. Rather, data has been directly obtained from the administrative records of the Internal Revenue Service (IRS), the Social Security Administration (SSA), and the Bureau of Labor Statistics (BLS). Although the nonmail companies account for over half of the population, they have accounted for less than 2 percent of the manufacturing output.

III. Data

OMB Control Number: 0607-0449.

Form Number: MA-10000(L), MA-10000(S).

Type of Review: Regular submission.

Affected Public: Business or other for-profit organizations; not-for-profit institutions; State or local governments.

Estimated Number of Respondents: 53,000.

Estimated Time per Response: 3.7 hours.

Estimated Total Annual Burden Hours: 187,000.

Estimated Total Annual Cost: The estimated cost to the respondents is $5,454,790.

Respondent's Obligation: Mandatory.

Legal Authority: Title 13, United States Code, Sections 182, 224, and 225.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 11, 2008.
Gwellnar Banks,
Management Analyst, Office of the Chief Information Officer.

[FR Doc. E8-5214 Filed 3-14-08; 8:45 am]

BILLING CODE 3510-07-P